DEPARTMENT OF TRANSPORTATION

Federal Aviation Administration

Advisory Circular (AC) 23-24, Airworthiness Compliance Checklists for Common Part 23 Supplemental Type Certificate (STC) Projects

AGENCY: Federal Aviation Administration (FAA), DOT.

ACTION: Notice of issuance of advisory circular.

SUMMARY: This notice announces the issuance of Advisory Circular (AC) 23-24, Airworthiness Compliance Checklists for Common Part 23 Supplemental Type Certificate (STC) Projects. The AC standardizes compliance checklists for common Title 14 of the Code of Federal Regulations (14 CFR) part 23 STC projects. These checklists may be used to fulfill some of the requirements for a Certification Plan for STC projects. The standard compliance checklists show typical methods of compliance with the regulations and cross-references related guidance material. Checklists created using the information in the AC complement the guidance in the Guides for Certification of Part 23 Airplanes (ACs 23-8B, 23-16A, 23-17B, and 23-19) and other project-specific guidance. The checklists may contain complete certification requirements or may be used as a starting place when applying for an STC that may be beyond the scope of the checklists.

DATES: Advisory Circular 23-24 was issued by the Manager of the Small Airplane Directorate on August 23, 2005.

How To Obtain Copies: You may obtain a paper copy of AC 23-24 by writing to the U.S. Department of Transportation, Subsequent Distribution Office, DOT Warehouse, M-30, Ardmore East Business Center, 3341Q 75th Avenue, Landover, MD 20785, telephone (301) 322-4779, or by faxing your request to the warehouse at (301) 386-5394.

Identify the publication as AC 23-24, Airworthiness Compliance Checklists for Common Part 23 Supplemental Type Certificate (STC) Projects, Stock Number 050-007-01371-0. The cost is $10.00 per copy for orders mailed within the U.S. and $14.00 for orders mailed outside the U.S. Send a check or money order, made payable to Superintendent of Documents, with your request. No c.o.d. orders are accepted.

The AC will also be available on the Internet at: http://www.faa.gov/certification/aircraft/

Issued in Kansas City, Missouri on December 5, 2005.
James E. Jackson,
Acting Manager, Small Airplane Directorate, Aircraft Certification Service.

[FR Doc. E5-7415 Filed 12-15-05; 8:45 am]

BILLING CODE 4910-13-P